DEPARTMENT OF HOMELAND SECURITY

Coast Guard

[USCG-2016-0142]

Towing Safety Advisory Committee; June 2016 Teleconference

AGENCY: Coast Guard, DHS.

ACTION: Notice of teleconference meeting.

SUMMARY: The Towing Safety Advisory Committee will meet, via teleconference, to receive two additional tasks: One on the implementation of 46 Code of Federal Regulations subchapter M and the other on training requirement for firefighting equipment for inland towing vessels. This meeting will be open to the public.

DATES: The full committee will meet by teleconference on Tuesday, June 22, 2016, from 1 p.m. until 3 p.m. Eastern Daylight Time. Please note that this meeting may close early if the Committee has completed its business. To join the teleconference, contact the individual listed in the FOR FURTHER INFORMATION CONTACT section to obtain the needed information no later than 1 p.m. on June 15, 2016. The number of teleconference lines is limited and will be available on a first-come, first-served basis. Written comments for distribution to Committee members before the meeting must be submitted no later than June 15, 2016.

ADDRESSES: Written comments may be submitted to the docket for this notice, USCG-2016-0142, using the Federal eRulemaking Portal at http://www.regulations.gov. To facilitate public participation, we are inviting public comment on the issues to be considered by the Committee as listed in the “Agenda” section below. If you encounter technical difficulties, contact the individual in the FOR FURTHER INFORMATION CONTACT section of this document for alternate instructions.

Instructions: All submissions must include the words “Department of Homeland Security” and the docket number for this action. Comments received will be posted without alteration at http://regulations.gov, including any personal information provided. You may review a Privacy Act notice regarding the Federal Docket Management system in the March 24, 2005, issue of the Federal Register (70 FR 15086).

Docket Search: For access to the docket to read documents or comments related to this notice, go to http://www.regulations.gov, type USCG-2016-0142 in the Search box, press Enter, and then click on the item you wish to view.

FOR FURTHER INFORMATION CONTACT: Mr. William J. Abernathy, Alternate Designated Federal Officer of the Towing Safety Advisory Committee, 2703 Martin Luther King Jr Ave. SE., Stop 7509, Washington, DC 20593-7509, telephone 202-372-1363, fax 202-372-8382 or william.j.abernathy@uscg.mil.

SUPPLEMENTARY INFORMATION: Notice of this meeting via teleconference is in compliance with the Federal Advisory Committee Act, (Title 5 U.S.C. Appendix). As stated in 33 U.S.C. 1231a, the Towing Safety Advisory Committee provides advice and recommendations to the Department of Homeland Security on matters related to shallow-draft inland and coastal waterway navigation and towing safety.

Agenda of Meeting

The agenda for the June 22, 2016, teleconference is as follows:

(1) Assignment of new tasking to the Committee for “Recommendations on the Implementation of 46 Code of Federal Regulations Subchapter M—Towing Vessels” (Short Title: Subchapter M Implementation). Work on this task is to begin after the Inspection of Towing Vessels final rule publishes.

(2) Assignment of new tasking to the Committee for “Recommendation Regarding Firefighting Training Requirements for Officer Endorsements for Master or Mate (Pilot) of Towing Vessels, Except Utility Towing and Apprentice Mate (Steersman) of Towing Vessels, in Inland Service” (Short title: “Firefighting Training Requirements”).

During the June 22, 2016 meeting via teleconference, a public comment period will be held from approximately 2:45 p.m. to 3 p.m. Speakers are requested to limit their comments to three minutes. Please note that this public comment period may start before 2:45 p.m. if all other agenda items have been covered and may end before 3 p.m. if all of those wishing to comment have done so.

Minutes

Minutes from the meeting will be available for public review and copying within 30 days following the meeting at https://homeport.uscg.mil/tsac.

Notice of Future 2016 Towing Safety Advisory Committee Meetings

To receive automatic email notices of any future Towing Safety Advisory Committee meetings in 2016, go to the online docket, USCG-2016-0142 (http://www.regulations.gov/1B!docketDetail;D=USCG-2016-0142), and select the sign-up-for-email-alerts option. We plan to use the same docket number for all Towing Safety Advisory Committee meeting notices in 2016, so if another 2016 meeting notice is published you will receive an email alert from www.regulations.gov when the notice appears in this docket.

Dated: May 26, 2016.
J.G. Lantz,
Director of Commercial Regulations and Standards, U.S. Coast Guard.

[FR Doc. 2016-12963 Filed 6-1-16; 8:45 am]

BILLING CODE 9110-04-P